INTERNATIONAL TRADE COMMISSION

[Investigation Nos. 701-TA-722-725 and 731-TA-1690-1693 (Final)]

Crystalline Silicon Photovoltaic Cells, Whether or Not Assembled Into Modules, From Cambodia, Malaysia, Thailand, and Vietnam

Determinations

On the basis of the record ¹ developed in the subject investigations, the United States International Trade Commission (“Commission”) determines, pursuant to the Tariff Act of 1930 (“the Act”), that an industry in the United States is materially injured by reason of imports of crystalline silicon photovoltaic cells, whether or not assembled into modules (“CSPV products”), from Malaysia and Vietnam and that a U.S. industry is threatened with material injury by reason of imports of CSPV products from Cambodia and Thailand, provided for in statistical reporting numbers 8541.42.0010 and 8541.43.0010 of the Harmonized Tariff Schedule of the United States,² that have been found by the U.S. Department of Commerce (“Commerce”) to be sold in the United States at less than fair value (“LTFV”) and subsidized by the governments of Cambodia, Malaysia, Thailand, and Vietnam.3 4

¹ The record is defined in § 207.2(f) of the Commission's Rules of Practice and Procedure (19 CFR 207.2(f)).

² CSPV products may also be imported under subheadings 8501.71, 8501.72, and 8501.80 and statistical reporting number 8507.20.8010.

³ 90 FR 17392, 90 FR 17406, 90 FR 173765, 90 FR 17384, 90 FR 17395, 90 FR 17380, 90 FR 17388, and 90 FR 17399 (April 25, 2025).

⁴ The Commission also finds that imports subject to Commerce's affirmative critical circumstances determination are not likely to undermine seriously the remedial effect of the countervailing and antidumping duty orders on CSPV products from Vietnam. Because of its threat determination, no critical circumstances findings with regard to imports of this product from Thailand were reached.

Background

The Commission instituted these investigations effective April 24, 2024, following receipt of petitions filed with the Commission and Commerce by the American Alliance for Solar Manufacturing Trade Committee. The final phase of the investigations was scheduled by the Commission following notification of preliminary determinations by Commerce that imports of CSPV products from Cambodia, Malaysia, Thailand and Vietnam were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 30, 2024 and subsequently after (89 FR 106578, December 30, 2024; 90 FR 1191, January 7, 2025; and 90 FR 2023, January 10, 2025). The Commission conducted its hearing on April 15, 2025. All persons who requested the opportunity were permitted to participate.

The Commission made these determinations pursuant to §§ 705(b) and 735(b) of the Act (19 U.S.C. 1671d(b) and 19 U.S.C. 1673d(b)). It completed and filed its determinations in these investigations on June 9, 2025. The views of the Commission are contained in USITC.

Publication 5631 (June 20252), entitled Crystalline Silicon Photovoltaic Cells, Whether or Not Assembled into Modules, from Cambodia, Malaysia, Thailand, and Vietnam: Investigation Nos. 701-TA-722-725 and 1690-1693 (Final).

By order of the Commission.
Issued: June 9, 2025.
Lisa Barton,
Secretary to the Commission.

[FR Doc. 2025-10744 Filed 6-12-25; 8:45 am]

BILLING CODE 7020-02-P